DEPARTMENT OF AGRICULTURE

Natural Resources Conservation Service

White Tank Mountains Watershed, Arizona

AGENCY: Natural Resources Conservation Service.

ACTION: Notice of intent to deauthorize Federal funding.

SUMMARY: Pursuant to the Watershed Protection and Flood Prevention Act, Pub. L. 83-566, and the Natural Resources Conservation Service Guidelines (7 CFR part 622), the Natural Resources Conservation Service gives notice of the intent to deauthorize Federal funding for the White Tank Mountains Watershed, Maricopa County, Arizona.

FOR FURTHER INFORMATION CONTACT: Michael Somerville, State Conservationist, Natural Resources Conservation Service, 230 North First Avenue, Suite 509, Phoenix, Arizona 85003, telephone: 602-280-8810.

SUPPLEMENTARY INFORMATION: A determination has been made by Michael Somerville that the proposed works of improvement for the White Tank Mountains Watershed project will not be installed. The sponsoring local organizations have concurred in this determination and agree that Federal funding should be deauthorized for the project. Information regarding this determination may be obtained from Michael Somerville, State Conservationist, at the above address and telephone number.

No administrative action on implementation of the proposed deauthorization will be taken until 60 days after the date of this publication in the Federal Register.

(Catalog of Federal Domestic Assistance Program No. 10.904, Watershed Protection and Flood Prevention. Office of Management and Budget Circular A-95 regarding State and local clearinghouse review of Federal and federally assisted programs and projects is applicable.)
Dated: November 19, 2004.
Michael Somerville,
State Conservationist.

[FR Doc. 04-26561 Filed 12-1-04; 8:45 am]

BILLING CODE 3410-16-P